NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number.

1. Type of submission, new, revision, or extension: Revision.

2. The title of the information collection: DOE/NRC Form 741, Nuclear Material Transaction Report and NUREG/BR-0006, Instructions for Completing Nuclear Material Transaction Reports.

3. The form number if applicable: DOE/NRC Form 741.

4. How often the collection is required: As occasioned by special nuclear material or source material transfers, receipts or inventory changes that meet certain criteria. Licensees range from not submitting any forms to submitting over 5,000 forms in a year.

5. Who will be required or asked to report: Persons licensed to process specified quantities of special nuclear material or source material, and licensees of facilities on the U.S. eligible list who have been notified in writing by the Commission that they are subject to Part 75.

6. An estimate of the number of annual responses: 36,500 (14,600 NRC licensees and 21,900 Agreement State licensees).

7. The estimated number of annual respondents: 400 (160 NRC licensees and 240 Agreement State licensees).

8. An estimate of the total number of hours needed annually to complete the requirement or request: 45,625 hours (18,250 NRC licensees and 27,375 Agreement State licensees).

9. An indication of whether Section 3507(d), Public Law 104-13 applies: N/A.

10. Abstract: NRC and Agreement State licensees are required to make inventory and accounting reports on DOE/NRC Form 741 for certain source or special nuclear material, or for transfer or receipt of 1 kilogram or more of source material. The use of DOE/NRC Form 740M, and 741, together with NUREG/BR-0006, the instructions for completing the forms, enables NRC to collect, retrieve, analyze as necessary, and submit the data to IAEA to fulfill its reporting responsibilities.

A copy of the final supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions should be directed to the OMB reviewer listed below by September 11, 2003. Comments received after this date will be considered if it is practical to do so, but assurance of consideration cannot be given to comments received after this date. Bryon Allen, Office of Information and Regulatory Affairs (3150-0003), NEOB-10202, Office of Management and Budget, Washington, DC 20503.

Comments can also be submitted by telephone at (202) 395-3087.

The NRC Clearance Officer is Brenda Jo. Shelton, 301-415-7233.

Dated at Rockville, Maryland, this 6th day of August, 2003.
For the Nuclear Regulatory Commission.
Brenda Jo. Shelton,
NRC Clearance Officer, Office of the Chief Information Officer.

[FR Doc. 03-20493 Filed 8-11-03; 8:45 am]

BILLING CODE 7590-01-P